DEPARTMENT OF DEFENSE

Office of the Secretary

[USN-2008-0012]

Privacy Act of 1974; System of Records

AGENCY: Office of the Secretary, DoD.

ACTION: Notice to Add a System of Records.

SUMMARY: The Department of Navy proposes to add a system of records to its inventory of record systems subject to the Privacy Act of 1974 (5 U.S.C. 552a), as amended.

DATES: The changes will be effective on April 9, 2008 unless comments are received that would result in a contrary determination.

ADDRESSES: Send comments to the Privacy Act Officer, Mrs. Doris Lama, Department of the Navy, 2000 Navy Pentagon, Washington, DC 20350-2000.

FOR FURTHER INFORMATION CONTACT: Mrs. Doris Lama at (202) 685-6545.

SUPPLEMENTARY INFORMATION: The Office of the Secretary of Defense notices for systems of records subject to the Privacy Act of 1974 (5 U.S.C. 552a), as amended, have been published in the Federal Register and are available from the address above.

The proposed systems reports, as required by 5 U.S.C. 552a(r) of the Privacy Act of 1974, as amended, were submitted on February 29, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

March 4, 2008.
L.M. Bynum,
Alternate OSD Federal Register Liaison Officer, Department of Defense.

N12300-2

System name:

Joint Employment Management System (JEMS).

System location:

Web based tool at www.jemsjobs.com is maintained by JEMS, Navy Region Hawaii, 1025 Quincy Ave., Suite 100, Pearl Harbor, HI 96860-4512.

Categories of individuals covered by the system:

Job Seekers: Active duty personnel, reservists, retirees, dependents, and civilian employees who are subject to reduction in force and are seeking employment opportunities in Hawaii.

Employers: Businesses who have job openings in Hawaii.

Categories of records in the system:

Job Seeker: Name; home addresses; home, business, and/or cell telephone numbers; applicant generated number; e-mail address; military/civilian status; branch of service; pay rate; command/duty station; sponsor's name; U.S. Citizen; job categories; job search areas; skills check list; resume; employment resource center; employment consultant; client status; application date; last review date; last login date; expiration date; client login name; open date; close date; renewal date; action; hired salary; login count; and remarks.

Employer: Company name; company identification number; point of contact name; e-mail address; login name; business address; phone and fax numbers; company Web site; job Web site; parent company name; application procedures; job locations; type of industry; company alias, company status; status date; job update method; company add date; first job listed; last job listed; job fair invitation; contact log; and job listings.

Authority for maintenance of the system:

5 U.S.C. 301, Departmental Regulations; 10 U.S.C. 5013, Secretary of the Navy.

Purpose(s):

To provide job resources to individuals coming to the high cost area of Hawaii by expanding and enhancing employment assistance services and sponsoring an annual job fair.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ that appear at the beginning of the Navy's compilation of systems notices also apply to this system.

Policies and practices for storing, retrieving, accessing, retaining, and disposing of records in the system:

Storage:

Web based commercial server and paper records.

Retrievability:

Job Seeker: Name or applicant identification number.

Company: Company name or company identification number.

Safeguards:

File/database servers are located in locked rooms and access is restricted to authorized persons only. Information is encrypted, compartmentalized, password protected and restricted to a limited number of authorized government personnel having a need-to-know. Manual and electronic records are restricted to a limited number of authorized government personnel having a need-to-know.

Retention and disposal:

Job Seekers records are deleted from the program two years after their record is closed.

Employer records are deleted from the program when the business/organization/agency goes out of business or no longer offers employment opportunities.

System manager(s) and address:

Policy Officials: Joint Project Advisory Board, JEMS, Commander, Navy Region Hawaii, 1025 Quincy Ave., Suite 100, Pearl Harbor, HI 96860-4512.

Record Holder: JEMS, Commander, Navy Region Hawaii, 1025 Quincy Ave., Suite 100, Pearl Harbor, HI 96860-4512.

Notification procedure:

Individuals seeking to determine whether this system of records contains information about themselves should address written inquiries to JEMS, Navy Region Hawaii, 1025 Quincy Ave., Suite 100, Pearl Harbor, HI 96860-4512.

The request should be signed and include the requester's full name, login name, e-mail address and a complete mailing address.

Record access procedures:

Individuals seeking access to records about themselves should address written inquiries to JEMS, Navy Region Hawaii, 1025 Quincy Ave, Suite 100, Pearl Harbor, HI 96860-4512.

The request should be signed and include the requester's full name, login name, e-mail address and a complete mailing address.

Contesting record procedures:

The Navy's rules for accessing records, and for contesting contents and appealing initial agency determinations are published in Secretary of the Navy Instruction 5211.5; 32 CFR part 701; or may be obtained from the system manager.

Record source categories:

Individual; employers; and Web site.

Exemptions claimed for the system:

None.

[FR Doc. E8-4734 Filed 3-7-08; 8:45 am]

BILLING CODE 5001-06-P